SMALL BUSINESS ADMINISTRATION

[License No. 04/04-0296]

KLH Capital II, L.P.; Notice Seeking Exemption Under Section 312 of the Small Business Investment Act, Conflicts of Interest

Notice is hereby given that KLH Capital, L.P., 101 East Kennedy Boulevard, Suite 3925, Tampa, FL, 33602 a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). KLH Capital, L.P., proposes to purchase securities of Energy Hardware Holdings, LLC, 2730 E. Phillips Road, Greer, SC 29650 from EH Holdings Associates, LLC. The financing is contemplated for growth and general corporate purposes.

The financing is brought within the purview of § 107.730(a)(1) of the Regulations because EH Holdings Associates, LLC, is an Associate of KLH Capital, L.P., due to common ownership and control, and owns more than ten percent of Energy Hardware Holdings, LLC. Therefore, Energy Hardware Holdings, LLC and EH Holdings Associates, LLC, are considered Associates of KLH Capital, L.P., as defined in Sec. 105.50 of the regulations.

Notice is hereby given that any interested person may submit written comments on the transaction to the Associate Administrator for Investment and Innovation, U.S. Small Business Administration, 409 Third Street, SW., Washington, DC 20416.

Dated: March 7, 2011.
Sean J. Greene,
Associate Administrator for Investment and Innovation.

[FR Doc. 2011-7066 Filed 3-25-11; 8:45 am]

BILLING CODE 8025-01-M